DEPARTMENT OF AGRICULTURE

Forest Service

Notice of Issuance of Final Permanent Seasonal Recreational Shooting Order in the Laramie Ranger District of the Medicine Bow-Routt National Forests and Thunder Basin National Grassland

AGENCY: Forest Service, Agriculture (USDA).

ACTION: Notice.

SUMMARY: The Forest Service (Forest Service or Agency), United States Department of Agriculture, is issuing a final permanent seasonal order prohibiting recreational shooting annually from March 31 to September 10 in the Pole Mountain area of the Laramie Ranger District in the Medicine Bow-Routt National Forests and Thunder Basin National Grassland, an area which covers approximately 55,714 acres in Albany County, Wyoming.

ADDRESSES: The final permanent seasonal recreational shooting order, map, and justification for the final permanent seasonal order are posted on the Medicine Bow-Routt National Forests and Thunder Basin National Grassland's web page at https://www.fs.usda.gov/detailfull/mbr/alerts-notices/?cid=stelprdb5139680&width=full.

FOR FURTHER INFORMATION CONTACT: Frank Romero, District Ranger, 307-745-2337 or frank.e.romero@usda.gov. Individuals who use telecommunication devices for the hearing-impaired may call the Federal Relay Service at 800-877-8339, 24 hours a day, every day of the year, including holidays.

SUPPLEMENTARY INFORMATION: Section 4103 of the John D. Dingell, Jr. Conservation, Management, and Recreation Act of 2019 (Pub. L. 116-9, Title IV (Sportsmen's Access and Related Matters)), hereinafter “the Dingell Act,” requires the Forest Service to provide advance notice and opportunity for public comment before temporarily or permanently closing any National Forest System lands to hunting, fishing, or recreational shooting.

The final permanent seasonal order prohibiting recreational shooting annually from March 31 to September 10 in the Pole Mountain area of the Laramie Ranger District in the Medicine Bow-Routt National Forests and Thunder Basin National Grassland has completed the public notice and comment process required under the Dingell Act. The Forest Service is issuing the final permanent seasonal recreational shooting order. The final permanent seasonal order, the justification for the final permanent seasonal order, and the response to comments on the permanent seasonal order are posted on the Medicine Bow-Routt National Forests and Thunder Basin National Grassland's web page at https://www.fs.usda.gov/detailfull/mbr/alerts-notices/?cid=stelprdb5139680&width=full.

Dated: October 30, 2023.
Jacqueline Emanuel,
Associate Deputy Chief, National Forest System.

[FR Doc. 2023-24330 Filed 11-2-23; 8:45 am]

BILLING CODE 3411-15-P